DEPARTMENT OF HEALTH AND HUMAN SERVICES

Administration for Children and Families

Proposed Information Collection Activity; Comment Request

Title: Voluntary Agencies Matching Grant Program.

OMB No.: New.

Description: The Voluntary Agencies Matching Grant Program was initiated in 1979 as an early employment alternative to public cash assistance. The goal of the Matching Grant Program is to assist individuals eligible for ORR funded services in attaining economic self-sufficiency within 120 to 180 days from their date of eligibility. Self-sufficiency must be achieved without accessing public cash assistance.

With the projected expansion of the Voluntary Agencies Matching Grant Program to 11 grantees in FY 2012, the Office of Refugee Resettlement (ORR) intends to seek approval from Office of Management and Budget (OMB) for information collection associated with the program. This includes a pre-award template for each local service provider site location and the data points the program currently collects.

The Local Service Provider Site Project Design template provides ORR with the information necessary to evaluate the appropriateness of the service delivery according to the capacity of the service provider to deliver required services and the potential of those enrolled in the program to achieve self-sufficiency. The collection instrument is a template composed of a ½ page table with contact and capacity data, a narrative of up to 2½ pages covering 11 elements related to capacity and service delivery, and a line-item budget. This form is required as part of the initial grant application and with each annual award renewal.

The Data points are aggregate measures for each site where Matching Grant Program services are provided. The data points will be collected using SF-PPR D. ORR has found these data points to be essential for evaluating grantee and program performance in meeting the requirements of both the Refugee Act and ORR regulations. Data points are recorded at enrollment and 120 days and/or 180 days from the point when the enrolled individual became eligible for the program. Data points include, eligible immigration status, employment eligibility and status, wage level, reasons for dropping out of the program (if applicable), and self-sufficiency outcomes. Grantees report data points to ORR triennially (every four-months) and annually.

Respondents: Voluntary agencies that already provide Reception & Placement services through a cooperative agreement with the U.S. Department of State (DOS) or the U.S. Department of Homeland Security (DHS).

Annual Burden Estimates
Instruments | Number of respondents | Number of responses per respondent | Average burden hours per response | Total burden hours
Local Service Provider Site Project Design Template | 11 | 21.90 | 1 | 240.90
SF PPR D Spreadsheet | 11 | 1 | 1.10 | 12.10

Estimated Total Annual Burden Hours: 253

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2011-14584 Filed 6-13-11; 8:45 am]

BILLING CODE 4184-01-P